DEPARTMENT OF DEFENSE

Office of the Secretary

Extension of Provider Reimbursement Demonstration Project for the State of Alaska

AGENCY: Department of Defense (DoD).

ACTION: Notice of demonstration extension.

SUMMARY: This notice provides an extension of the demonstration project in the State of Alaska for individual provider payment rates. Under the demonstration, payment rates for physicians and other non-institutional individual professional providers in the State of Alaska have been set at a rate higher than the Medicare rate. Further, the enhanced portion of the State of Alaska demonstration that provides for reimbursement of 101 percent of reasonable costs for inpatient and outpatient facilities of Critical Access Hospitals (CAHs) is terminated because it is no longer necessary based on publication of the TRICARE Reimbursement of CAHs final rule (74 FR 44752) on August 31, 2009.

DATES: The portion of the demonstration regarding payment rates for physicians and other non-institutional providers is extended through December 31, 2010. The CAH portion of the demonstration shall end on November 30, 2009.

ADDRESSES: TRICARE Management Activity (TMA), Medical Benefits and Reimbursement Branch, 16401 East Centretech Parkway, Aurora, CO 80011-9066.

FOR FURTHER INFORMATION CONTACT: Glenn J. Corn, TRICARE Management Activity, Medical Benefits and Reimbursement Branch, telephone (303) 676-3566.

SUPPLEMENTARY INFORMATION: On November 20, 2006, DoD published a Notice of a TRICARE demonstration project for the State of Alaska, with an effective date of January 1, 2007 (71 FR 67113), to set payment rates for physicians and other non-institutional individual professional providers in the State of Alaska at a rate higher than the Medicare rate. The demonstration was effective January 1, 2007, for a period of three years, ending on December 31, 2009. Since that time, DoD has determined that increasing provider payment rates (factor rate increase) in Alaska, across all services, has shown mixed results on provider participation, beneficiary access to care, cost of health care services, military readiness, and morale and welfare. The Agency feels an extension of the demonstration is needed to provide more time to fully evaluate and implement a comprehensive framework for managing TRICARE in the State of Alaska. In the meantime, the Agency is looking toward developing a more comprehensive, updated management and reimbursement strategy that will provide a foundation for developing and implementing a comprehensive long-term plan through collaboration with Federal Service Partners for mutually accepted Federal rates. The demonstration continues to be conducted under statutory authority provided in 10 United States Code 1092.

Subsequent to the publication of the initial notice creating the increased rates for individual providers, DoD published a second notice on July 20, 2007, expanding the TRICARE demonstration project for the State of Alaska to reimburse CAHs 101 percent of reasonable costs for inpatient and outpatient care with an effective date of July 1, 2007 (72 FR 41501), using a method similar to Medicare's payment for these hospitals. The CAH portion of the State of Alaska demonstration is no longer necessary because the DoD is implementing such a reimbursement system on a nationwide basis. Consequently, the CAH portion of the demonstration is terminated. The TRICARE CAH final rule was published on August 31, 2009 (74 FR 44752).

Dated: December 15, 2009.
Patricia L. Toppings,
OSD Federal Register Liaison Officer, Department of Defense.

[FR Doc. E9-30090 Filed 12-17-09; 8:45 am]

BILLING CODE 5001-06-P